LEGAL SERVICES CORPORATION

Pro Bono Innovation Fund Request for Pre-Applications for 2022 Grant Funding

AGENCY: Legal Services Corporation.

ACTION: Notice.

SUMMARY: The Legal Services Corporation (LSC) issues this Notice describing the conditions for submitting a Pre-Application for 2022 Pro Bono Innovation Fund grants.

DATES: Pre-Applications must be submitted by 11:59 p.m. EST on Friday, January 21, 2022.

ADDRESSES: Pre-Applications must be submitted electronically via LSC's unified grants management system, GrantEase.

FOR FURTHER INFORMATION CONTACT: Caroline Shriver, Grants Program Coordinator, Office of Program Performance, Legal Services Corporation, 3333 K Street NW, Washington, DC 20007; (202) 302-4335; or probonoinnovation@lsc.gov.

SUPPLEMENTARY INFORMATION:

I. Introduction

Since 2014, Congress has provided an annual appropriation to LSC “for a Pro Bono Innovation Fund.” See, e.g., Consolidated Appropriations Act, 2017, Public Law 115-31, 131 Stat. 135 (2017). LSC requested these funds for grants to “develop, test, and replicate innovative pro bono efforts that can enable LSC grantees to expand clients' access to high quality legal assistance.” LSC Budget Request, Fiscal Year 2014 at 26 (2013). The grants must involve innovations that are either “new ideas” or “new applications of existing best practices.” Id. Each grant would “either serve as a model for other legal services providers to follow or effectively replicate a prior innovation. Id. The Senate Appropriations Committee explained that these funds “will support innovative projects that promote and enhance pro bono initiatives throughout the Nation,” and the House Appropriations Committee directed LSC “to increase the involvement of private attorneys in the delivery of legal services to [LSC-eligible] clients.” S. Rep. 114-239 at 123 (2016), House Rep. 113-448 at 85 (2014).

Since its inception, the Pro Bono Innovation Fund has advanced LSC's goal of increasing the quantity and quality of legal services by funding projects that more efficiently and effectively involve pro bono volunteers in serving the critical unmet legal needs of LSC-eligible clients. In 2017, LSC built on these successes by creating three funding categories to better focus on innovations serving unmet and well-defined client needs (Project Grants), on building comprehensive and effective pro bono programs through new applications of existing best practices (Transformation Grants), and on providing continued development support for the most promising innovations (Sustainability Grants). In 2021, LSC created a second track for Project Grants to address grantees' desire to develop and implement innovative solutions to pro bono challenges that are beyond direct legal services.

II. Funding Opportunities Information

A. Eligible Applicants

To be eligible for the Pro Bono Innovation Fund's Project, Sustainability, and Transformation grants, Applicants must be current grantees of LSC Basic Field-General, Basic Field-Migrant, or Basic Field-Native American grants. In addition, Sustainability Grant Applicants must also be a current Pro Bono Innovation Fund grantee with a 2019 or 2020 grant award.

B. Pro Bono Innovation Fund Purpose and Key Goals

Pro Bono Innovation Fund grants develop, test, and replicate innovative pro bono efforts that can enable LSC grantees to use pro bono volunteers to serve larger numbers of low-income clients and improve the quality and effectiveness of the services provided. The key goals of the Pro Bono Innovation Fund are to:

1. Address gaps in the delivery of legal services to low-income people;

2. Engage more lawyers and other volunteers in pro bono service;

3. Develop, test, and replicate innovative pro bono efforts.

C. Funding Categories

1. Project Grants

The goal of Pro Bono Innovation Fund Project Grants is to leverage volunteers to meet a critical, unmet and well-defined client need. Consistent with the key goals of the Pro Bono Innovation Fund, applicants are encouraged to focus on engaging volunteers to increase free civil legal aid for low-income Americans by proposing new, replicable ideas. The Pro Bono Innovation Fund has two Project Grant types, Direct Service and Non-Direct Service. Direct Service projects are focused on engaging volunteers to increase free legal assistance for eligible clients. Non-Direct service projects propose to strengthen core aspects of pro bono delivery systems and may not result in direct pro bono client services within the grant timeframe (i.e., develop suite of substantive training materials, create on-demand videos for volunteers, etc.).

Applicants are strongly encouraged to research prior Pro Bono Innovation Fund projects to replicate and improve upon them. LSC is particularly interested in applications that propose to replicate projects LSC has previously funded with Sustainability Grants. Project Grants can be either 18 or 24 months.

2. Transformation Grants

The goal of Pro Bono Innovation Fund Transformation Grants is to support LSC grantees in comprehensive assessment and restructuring of pro bono programs through new applications of existing best practices in pro bono delivery. Each Transformation Grant will support a rigorous assessment of an LSC grantee's pro bono program and the identification of best practices in pro bono delivery that are best suited to that grantee's needs and circumstances. Transformation Grants are targeted towards LSC grantees whose leadership is committed to restructuring an entire pro bono program and incorporating pro bono best practices into core, high-priority client services with an urgency to create a high-impact pro bono program. This funding opportunity is open to all LSC grantees but is primarily intended for LSC grantees who have been unsuccessful applying for Project Grants or who have never applied for a Pro Bono Innovation Fund grant in the past. Transformation Grants can be either 24 or 36 months.

3. Sustainability Grants

Pro Bono Innovation Fund Sustainability Grants are available to current Pro Bono Innovation Fund grantees who received a 2019 or 2020 Project grant. The goal of Sustainability Grants is to support further development of the most promising and replicable Pro Bono Innovation Fund projects with an additional 24 months of funding so grantees can leverage new sources of revenue for the project and collect meaningful data to demonstrate the project's results and outcomes for clients and volunteers. Applicants for Sustainability Grants will be asked to propose an ambitious strategy that reduces the Pro Bono Innovation Fund contribution to the project over the Sustainability Grant term. Sustainability Grants are for 24 months.

D. Available Funds and Additional Consideration for 2022 Grants

The availability of funds for Pro Bono Innovation Fund Grants for FY2022 depends on LSC's final appropriation amount. LSC currently is operating under a Continuing Resolution for FY2022, which funds the Federal government through December 3, 2021. The Continuing Resolution maintains Pro Bono Innovation Fund at the FY2021 level of $4,750,000. LSC anticipates publicizing the total amount available for Pro Bono Innovation Fund Grants when Congress enacts the FY2022 appropriation. Pro Bono Innovation Fund Grant decisions for FY2022 will be made in the summer of 2022.

LSC will not designate fixed or estimated amounts for the three different funding categories and will make grant awards for the three categories within the total amount of funding available.

E. Grant Terms

Pro Bono Innovation Fund awards can have grant terms of 18, 24, or 36 months, depending on the category of grant.

| 18 months | 24 months | 36 months
Project Grants | √ | √ | X
Transformation Grants | X | √ | √
Sustainability Grants | X | √ | X

Applicants for Project Grants can apply for either an 18- or a 24-month grant. Applicants for Transformation Grants can apply for either a 24- or a 36-month grant. Applicants for Sustainability Grants can apply for a 24-month grant only. Applications must cover the full proposed grant term. The grant term is expected to commence on October 1, 2022.

III. Grant Application Process

A. Pro Bono Innovation Fund Grant Application Process

This year, the Pro Bono Innovation Fund application process will be administered in LSC's unified grants management system, GrantEase. Applicants must first submit a Pre-Application to LSC in GrantEase by January 21, 2022 to be considered for a grant. After review by LSC staff, LSC's President decides which applicants will be asked to submit a full application. Applicants will be notified of approval to submit a full application by early March, 2022. Full applications are due to LSC in the GrantEase system on May 9, 2022. Once received, full applications will undergo a rigorous review by LSC staff and other subject matter experts. LSC's President makes the final decision on funding for the Pro Bono Innovation Fund.

B. Late or Incomplete Applications

LSC may consider a request to submit a Pre-Application after the deadline, but only if the Applicant has submitted an email to probonoinnovation@lsc.gov explaining the circumstances that caused the delay prior to the Pre-Application deadline. Communication with LSC staff, including assigned Program Liaisons, is not a substitute for sending a formal request and explanation to probonoinnovation@lsc.gov. At its discretion, LSC may consider incomplete applications. LSC will determine the admissibility of late or incomplete applications on a case-by-case basis.

C. Multiple Pre-Applications

Applicants may submit multiple Pre-applications under the same or different funding category. If applying for multiple grants, applicants should submit separate Pre-applications for each funding request.

D. Additional Information and Guidelines

Additional guidance and instructions on the Pro Bono Innovation Fund Pre-Application and Application processes, will be available and regularly updated at https://www.lsc.gov/grants-grantee-resources/our-grant-programs/pro-bono-innovation-fund.

Dated: November 24, 2021.
Jessica Lynne Wechter,
Special Assistant to the President.

[FR Doc. 2021-26028 Filed 11-29-21; 8:45 am]

BILLING CODE 7050-01-P